DEPARTMENT OF ENERGY

Federal Energy Regulatory Commission

[Docket No. EL12-66-000; Docket No. EL12-63-000]

Exelon Corporation, Public Service Electric and Gas Company, PSEG Power LLC, PSEG Energy Resources & Trade LLC, v. Unnamed Participant, PJM Interconnection, L.L.C.; Independent Market Monitor for PJM v. Unnamed Participant; Notice of Complaint

Take notice that on May 8, 2012, pursuant to sections 206(h) and 211 of the Federal Energy Regulatory Commission's (Commission) Rules of Practice and Procedure, 18 CFR 385.206 and 385.211 and section 206 of the Federal Power Act, 16 U.S.C. 824(e), Exelon Corporation, Public Service Electric and Gas Company, PSEG Power LLC, and PSEG Energy Resources & Trade LLC (collectively, Joint Complainants), filed a formal complaint against Unnamed Participant and PJM Interconnection, L.L.C. (PJM), requesting that the Commission direct PJM to reject any Sell Offer by Unnamed Participant for Project X that does not comply with the Minimum Offer Price Rule and affect the price at which the Base Residual Auction clears.

Joint Complainants state that the Complaint was served: (1) By email on PJM and (2) electronically via the Commission's ECF system and all parties in EL12-63. Joint Complainants state that they are unable to confirm service on Unnamed Participant because its identity is not known.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 21, 2012.

Dated: May 9, 2012.
Kimberly D. Bose,
Secretary.

[FR Doc. 2012-11740 Filed 5-15-12; 8:45 am]

BILLING CODE 6717-01-P